Title 3—

The President

Executive Order 13232 of October 20, 2001

Further Amendment to Executive Order 10789, as Amended, To Authorize the Department of Health and Human Services To Exercise Certain Contracting Authority in Connection With National Defense Functions

By the authority vested in me as President by the Constitution and the laws of the United States of America, including 50 U.S.C. 1431-35, and in order to authorize the Department of Health and Human Services to exercise certain contracting authority in connection with national defense functions, it is hereby ordered that Executive Order 10789 of November 14, 1958, as amended, is further amended by inserting the words “Department of Health and Human Services” in the list of departments and agencies in section 21 of that order after the words “Department of Commerce.”

B

THE WHITE HOUSE,

October 20, 2001.

[FR Doc. 01-26990

Filed 10-23-01; 11:17 am]

Billing code 3195-01-P